DEPARTMENT OF LABOR

Employment and Training Administration

[TA-W-53,627]

The Washout Co., St. Joseph, MO; Notice of Termination of Investigation

Pursuant to section 221 of the Trade Act of 1974, as amended, an investigation was initiated on November 25, 2003 in response to a worker petition filed by a company official on behalf of workers at The Washout Company, St. Joseph, Missouri.

The petitioner has requested that the petition be withdrawn. Consequently, the investigation has been terminated.

Signed at Washington, DC, this 8th day of December, 2003.
Elliott S. Kushner,
Certifying Officer, Division of Trade Adjustment Assistance.

[FR Doc. 03-31461 Filed 12-19-03; 8:45 am]

BILLING CODE 4510-30-P